NEIGHBORHOOD REINVESTMENT CORPORATION

Neighborworks® America; Regular Meeting of the Board of Directors; Sunshine Act

Time & Date: 10 a.m. Thursday, December 7, 2006.

Place: 1325 G Street, NW., Suite 800, Boardroom, Washington, DC 20005.

Status: Open.

Contact Person for More Information: Jeffrey T. Bryson, General Counsel/Secretary, (202) 220-2372; jbryson@nw.org.

Agenda:

I. Call to Order.

II. Approval of the Minutes.

III. Summary Report of the Audit Committee.

IV. Summary Report of the Finance, Budget and Program Committee.

V. Financial Report.

VI. Chief Executive Officer's Quarterly Management Report.

a. Gulf Coast Rebuilding Initiative.

b. NHSA Update.

VII. Information Management Division Presentation.

VIII. Adjournment.

Jeffrey T. Bryson,
General Counsel/Secretary.

[FR Doc. 06-9582 Filed 12-4-06; 2:42 pm]

BILLING CODE 7570-02-M